DEPARTMENT OF COMMERCE

International Trade Administration

[C-533-821]

Certain Hot-Rolled Carbon Steel Flat Products From India: Rescission of Countervailing Duty Administrative Review; 2012

AGENCY: Import Administration, International Trade Administration, Department of Commerce.

SUMMARY: The Department of Commerce (“the Department”) is rescinding the administrative review of the countervailing duty order on certain hot-rolled carbon steel flat products (“hot-rolled steel”) from India for the period January 1, 2012, through December 31, 2012.

DATES: Effective Date: July 5, 2013.

FOR FURTHER INFORMATION CONTACT: Robert Copyak, AD/CVD Operations, Office 8, Import Administration, International Trade Administration, U.S. Department of Commerce, 14th Street and Constitution Avenue NW., Washington, DC 20230; telephone: (202) 482-2209.

SUPPLEMENTARY INFORMATION:

Background

The Department initiated an administrative review of the countervailing duty order on hot-rolled steel from India covering the period January 1, 2012, through December 31, 2012, based on requests by United States Steel Corporation (“U.S. Steel”) and Nucor Corporation (“Nucor”).¹

¹ See Initiation of Antidumping and Countervailing Duty Administrative Reviews and Request for Revocation in Part, 78 FR 6291 (January 30, 2013) (“Initiation Notice”), as corrected in Initiation of Antidumping and Countervailing Duty Administrative Reviews and Request for Revocation in Part, 78 FR 25418, 25422 (May 1, 2013).

U.S. Steel and Nucor withdrew their requests for an administrative review in their entirety on April 12, 2013, and April 25, 2013, respectively.

Rescission of Review

Pursuant to 19 CFR 351.213(d)(1), the Department will rescind an administrative review, in whole or in part, if the party that requested the review withdraws its request within 90 days of the publication of the notice of initiation of the requested review. In this case, U.S. Steel and Nucor withdrew their requests within the 90-day deadline and no other parties requested an administrative review of the countervailing duty order. Therefore, we are rescinding the administrative review of hot-rolled steel from India covering the period January 1, 2012, through December 31, 2012, in its entirety.

Assessment

The Department will instruct U.S. Customs and Border Protection (“CBP”) to assess countervailing duties on all entries of hot-rolled steel from India during the period of review at rates equal to the cash deposit of estimated countervailing duties required at the time of entry or withdrawal from warehouse for consumption, in accordance with 19 CFR 351.212(c)(1)(i). The Department intends to issue appropriate assessment instructions to CBP 15 days after publication of this notice.

Notifications

This notice serves as a final reminder to importers of their responsibility under 19 CFR 351.402(f)(2) to file a certificate regarding the reimbursement of countervailing duties prior to liquidation of the relevant entries during this review period.

This notice also serves as a final reminder to parties subject to administrative protective order (“APO”) of their responsibility concerning the return or destruction of proprietary information disclosed under APO in accordance with 19 CFR 351.305(a)(3). Timely written notification of the return/destruction of APO materials or conversion to judicial protective order is hereby requested. Failure to comply with the regulations and terms of an APO is a violation that is subject to sanction.

This notice is issued and published in accordance with sections 751(a)(1) and 777(i)(1) of the Tariff Act of 1930, as amended, and 19 CFR 351.213(d)(4).

Dated: June 27, 2013.
Christian Marsh,
Deputy Assistant Secretary for Antidumping and Countervailing Duty Operations.

[FR Doc. 2013-16169 Filed 7-3-13; 8:45 am]

BILLING CODE 3510-DS-P